DEPARTMENT OF ENERGY

Federal Energy Regulatory Commission

[Docket No. EG03-106-000, et al.]

Plymouth Energy LLC, et al.; Electric Rate and Corporate Filings

September 26, 2003.

The following filings have been made with the Commission. The filings are listed in ascending order within each docket classification.

1. Plymouth Energy LLC

[EG03-106-000]

Take notice that on September 23, 2003, Plymouth Energy LLC submitted for filing an application for a determination that it is an Exempt Wholesale Generator and that the facility to be constructed by Plymouth Energy will be an eligible facility.

Comment Date: October 17, 2003.

2. Waymart Wind Farm L.P.

[Docket No. EG03-107-000]

Take notice that on September 23, 2003, Waymart Wind Farm L.P. (Waymart), filed with the Commission an application for a determination of exempt wholesale generator status pursuant to part 365 of the Commission's regulations.

Waymart states that it is a Delaware corporation and is the owner and operator of a wind-powered electric generating facility with a nameplate capacity of 64.5 MW to be located in Wayne and Lackawanna Counties, Pennsylvania. Waymart states that the facility will sell energy, capacity, and ancillary services into the wholesale generation market.

Comment Date: October 17, 2003.

3. Calpine Energy Services, L.P.

[Docket No. ER00-3562-001]

Take notice that on September 22, 2003, Calpine Energy Services, L.P. submitted for filing its triennial market power analysis in compliance with the Commission Order issued in Docket No. ER00-3562-000 on September 21, 2000.

Comment Date: October 14, 2003.

4. Michigan Electric Transmission Company

[Docket No. ER02-562-002]

Take notice that on September 23, 2003, Michigan Electric Transmission Company (Michigan Electric) submitted for filing a Second Sub Original Sheet No. 140A of the FERC Electric Tariff, Original Volume No.1, in compliance with the September 10, 2003 Order issued in this proceeding. Michigan Electric states that the filed sheet is to be effective as of December 13, 2001. Michigan Electric also states that copies of the filing were served upon those on the official service list in this proceeding.

Comment Date: October 14, 2003.

5. ISO New England Inc.

[Docket No. ER02-2330-018]

Take notice that on September 22, 2003, ISO New England Inc. submitted a compliance filing providing a status report on the implementation of Standard Market Design in New England.

Comment Date: October 14, 2003.

6. Carolina Power & Light Company

[Docket Nos. ER03-1156-000 and ER03-1156-001]

Take notice that on September 22, 2003, Carolina Power and Light Company, d/b/a Progress Energy Carolinas, Inc. (CPL), filed a request to defer action in Docket No. ER03-1156-000 and ER03-1156-001 to allow time to fully integrate Rate Schedule No. 121, which is the Power Coordination Agreement between CPL and North Carolina Eastern Municipal Power Agency.

Comment Date: October 14, 2003.

7. Entegra North America, L.P.

[Docket No. ER03-1170-001]

Take notice that on September 22, 2003, Entegra North America, L.P. (Entegra) submitted for filing amended designations pertaining to rate filings made by Entegra on August 4, 2003, in Docket No. ER03-1170-000.

Comment Date: October 14, 2003.

8. Vineland Energy LLC

[Docket No. ER03-1283-001]

Take notice that on September 22, 2003, Vineland Energy LLC (Vineland) submitted an amendment to its Petition for Order Accepting Market-Based Rate Schedule for Filing and Granting of Waivers and Blanket Approvals and Request for Expedited Action to reflect a change in the direct ownership of Vineland from Vineland Cogeneration Limited Partnership (VCLP) to Merlot Energy LLC, a newly-formed entity with the same upstream ownership as VCLP.

Comment Date: October 14, 2003.

9. Black Hills Power, Inc., Basin Electric Power Cooperative Powder River Energy Corporation

[Docket No ER03-1354-001]

Take notice that on September 23, 2003, Black Hills Power Inc., Basin Electric Power Cooperative, and Powder River Energy Corporation filed a corrected page of their Open Access Transmission Tariff originally filed September 16, 2003.

Comment Date: October 14, 2003.

10. Pacific Gas and Electric Company

[Docket No. ER03-1361-000]

Take notice that on September 22, 2003, Pacific Gas and Electric Company (PG&E) tendered for filing a Wholesale Distribution Tariff (WDT) Service Agreement (Service Agreement) and an Interconnection Agreement (IA) between PG&E and Westside Power Authority (WPA) and a Construction Agreement between PG&E and Turlock Irrigation District (TID).

PG& E states that the Service Agreement is submitted pursuant to the PG&E WDT and permits PG&E to recover the ongoing costs for service required over PG&E's distribution facilities. The IA provides the terms and conditions for the continued interconnection of the Electric Systems of WPA and PG&E. PG&E further states that the Construction Agreement sets forth the terms and conditions for PG&E to modify existing transmission facilities to interconnect the WPA's service area.

PG&E has requested certain waivers for a proposed effective date of the asset sale closing date. Copies of this filing have been served upon Westside Power Authority, Turlock Irrigation District, the California Independent System Operator Corporation and the California Public Utilities Commission.

Comment Date: October 14, 2003.

11. Pacific Gas and Electric Company

[Docket No. ER03-1362-000]

Take notice that on September 22, 2003, Pacific Gas and Electric Company (PG&E) tendered for filing Generator Special Facilities Agreements (GSFAs) and Generator Interconnection Agreements (GIAs) between PG&E and the following parties: CalPeak Power—Panoche, LLC (CalPeak Panoch), CalPeak Power—Midway, LLC (CalPeak Midwa) and Sunrise Power Company, LLC (Sunrise II) (collectively, Parties), and a Notice of Termination of the CalPeak Midway GSFA.

PG&E states that the GSFAs permit PG&E to recover the ongoing costs associated with owning, operating and maintaining the Special Facilities for each Party. PG&E further state that the GIAs provide terms and conditions for billing, operation, maintenance, and metering. As detailed in the GSFAs, PG&E proposes to charge each of the Parties a monthly Cost of Ownership Charge equal to the rates for transmission-level, customer-financed facilities in PG&E notes that its currently effective Electric Rule 2, as filed with the California Public Utilities Commission (CPUC). PG&E's currently effective rate of 0.31% for transmission-level, customer-financed Special Facilities is contained in the CPUC's Advice Letter 1960-G/1587-E, effective August 5, 1996, a copy of which is included as Attachment 7 of this filing. PG&E has requested certain waivers.

PG&E states that copies of this filing have been served upon CalPeak Panoche, CalPeak Midway, Sunrise II, La Paloma Power Company, LLC, the California Independent System Operator Corporation, and the CPUC.

Comment Date: October 14, 2003.

12. Midwest Independent Transmission System Operator, Inc.

Docket No. ER03-1363-000]

Take notice that on September 22, 2003, Midwest Independent Transmission System Operator, Inc. (Midwest ISO) pursuant to section 205 of the Federal Power Act and Section 35.12 of the Commission's regulations, the submitted for filing a Load Interconnection and Operating Agreement among Indianapolis Power & Light Company and Hoosier Energy Rural Electric Cooperative, Inc.

Midwest ISO states that a copy of this filing was served on Indianapolis Power & Light Company and Hoosier Energy Rural Electric Cooperative, Inc.

Comment Date: October 14, 2003.

13. Midwest Independent Transmission System Operator, Inc.

[Docket No. ER03-1364-000]

Take notice that on September 22, 2003, Midwest Independent Transmission System Operator, Inc. (Midwest ISO) pursuant to section 205 of the Federal Power Act and Section 35.12 of the Commission's regulations, submitted for filing an Interconnection and Operating Agreement among Kentucky Utilities Company and Smithland Hydroelectric Partners, Ltd.

Midwest ISO states that a copy of this filing was served on Kentucky Utilities Company and Smithland Hydroelectric Partners, Ltd.

Comment Date: October 14, 2003.

14. Southern California Edison Company

[Docket No. ER03-1365-000]

Take notice that on September 22, 2003, Southern California Edison Company (SCE) tendered for filing a Letter Agreement between SCE and the City of Corona, California (Corona). SCE states that the purpose of the Letter Agreement is to provide an interim arrangement pursuant to which SCE will commence the engineering, design, procurement and preparation of specifications for the interconnection facilities and system upgrades necessary to provide Distribution Service from the California Independent System Operator Controlled Grid to a proposed new SCE-Corona 12 kV interconnection in the city of Corona. SCE further states that Corona is planning to construct distribution facilities from the proposed new SCE-Corona 12 kV interconnection to serve its Wholesale Distribution Loads in a new development known as Dos Lagos.

SCE states that copies of this filing were served upon the Public Utilities Commission of the State of California and Corona.

Comment Date: October 14, 2003.

15. Xcel Energy Services Inc.

[Docket No. ER03-1366-000]

Take notice that on September 23, 2003, Xcel Energy Services Inc., on behalf of Northern States Power Company (NSP), submitted for filing with the Commission a Generation Interconnection Agreement between NSP and Fey Wind Farm, LLC, a 1.9 MW wind generator.

NSP requests the agreement be accepted for filing effective September 4, 2003, and requests waiver of the Commission's notice requirements in order for the Agreements to be accepted for filing on the date requested.

Comment Date: October 14, 2003.

16. Xcel Energy Services Inc.; Northern States Power Company

[Docket No. ER03-1367-000]

Take notice that on September 23, 2003, Xcel Energy Services Inc. (XES), on behalf of Northern States Power Company (NSP), submitted for filing with the Commission a Generation Interconnection Agreement between NSP and Windcurrent Farms, LLC, a 1.9 MW wind generator.

NSP requests the agreement to be accepted for filing effective September 1, 2003, and requests waiver of the Commission's notice requirements in order for the Agreements to be accepted for filing on the date requested.

Comment Date: October 14, 2003.

17. Cleco Power LLC, Cleco Marketing & Trading LLC, Perryville Energy, Partners, L.L.C., Cleco Evangeline LLC, Acadia Power Partners, LLC

[Docket Nos. ER03-1368-000, ER03-1369-00, ER03-1370-0000, ER03-1371-000, and ER03-1372-000]

Take notice that on September 23, 2003, Cleco Power LLC and its jurisdictional affiliates, Cleco Marketing & Trading LLC, Perryville Energy Partners, L.L.C., Cleco Evangeline LLC, and Acadia Power Partners, LLC (collectively referred to as the Cleco Companies) filed with the Commission First Revised Sheet Nos. 3-4, superseding Original Sheet Nos. 3-4 and Original Sheet No. 5 to FERC Electric Tariff, Original Volume No. 1 in compliance with FERC's Order Approving Stipulation and Consent Agreement and Requiring Payment of Civil Penalty issued July 25, 2003 in Docket No. IN03-1-000, 104 FERC ¶ 61,125. Cleco Companies state that these sheets contain the Statement of Policy and Code of Conduct with Respect to the Relationship with the Cleco Companies.

Comment Date: October 14, 2003.

18. Orange and Rockland Utilities, Inc.

[Docket No. ER03-1373-000]

Take notice that on September 23, 2003, Orange and Rockland Utilities, Inc. (Orange and Rockland) requested that the Commission discontinue a service agreement under which Orange and Rockland provides for the transmission of hydropower and associated energy from New York Power Authority (Authority) to Public Service Electric and Gas Company, for transmission to members of the Public Power Association of New Jersey (Association). Orange and Rockland states that the Authority's power sales agreement with the Association, terminates on October 21, 2003. The Authority requested that Orange and Rockland waive the requirements for 90 days notice to terminate the Agreement so that service may terminate on October 31, 2002. The Authority states that Orange and Rockland is amendable to this request.

Orange and Rockland states that a copy of this filing has been served by mail to the Authority and the Association.

Comment Date: October 14, 2003.

19. Plymouth Energy LLC

[Docket No. ER03-1374-000]

Take notice that on September 23, 2003, Plymouth Energy LLC submitted for filing an initial rate schedule for sales of electricity at market-based rates. Plymouth Energy requested certain blanket approvals and the waiver of certain Commission regulations.

Comment Date: October 14, 2003.

20. Golden Spread Electric Cooperative, Inc.

[Docket No. ER03-1376-000]

Take notice that on September 23, 2003, Golden Spread Electric Cooperative, Inc. (Golden Spread) tendered for filing with the Commission a Third Informational Filing to Golden Spread Rate Schedule No. 35. The Third Informational Filing updates the formulary fixed costs associated with replacement energy sales by Golden Spread to Southwestern Public Service Company (Southwestern). Golden Spread states that a copy of this filing has been served upon Southwestern.

Comment Date: October 14, 2003.

21. American Electric Power Service Corporation

[Docket No. ER03-1377-000]

Take notice that on September 23, 2003, American Electric Power Service Corporation (AEPSC), as agent Central Power and Light Company (now known as AEP Texas Central Company), tendered for filing pursuant to Section 35.15 of the Commission's regulations, a Notice of Cancellation of Service Agreements between Central Power and Light Company and various entities under CPL FERC Electric Tariff, Second Revised Volume No. 8. AEPSC states that the Power Sales Tariff was accepted for filing by the Commission, effective July 9, 1996 in Docket ER96-2342-001. AEPSC requests an effective date of September 1, 2003 for the cancellation.

AEPSC states that it has served copies of the filing upon the parties listed in Exhibit 1 and the affected state regulatory commissions.

Comment Date: October 14, 2003.

22. Florida Power CorporationDocket

[No. ER03-1380-000]

Take notice that on September 23, 2003, Florida Power Corporation, doing business as Progress Energy Florida, Inc. (Florida Power), tendered for filing its Rate Schedule FERC No. 186, the Operating Agreement between Tampa Electric Company (Tampa Electric) and Florida Power dated August 14, 2003, and revised sheets to its First Revised Rate Schedule FERC No. 80, the Contract for Interchange Service between Florida Power and Tampa Electric dated July 21, 1977. Florida Power states that the filing is being made to implement the transfer of certain transmission facilities approved in Docket No. EC03-93-000. Florida Power requests an effective date for its filing of August 14, 2003.

Florida Power states that copies of this filing were served on Tampa Electric and the Florida Public Service Commission.

Comment Date: October 14, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-25220 Filed 10-3-03; 8:45 am]

BILLING CODE 6717-01-P